FARM CREDIT ADMINISTRATION

Privacy Act of 1974; Revocation of a System of Records

AGENCY: Farm Credit Administration.

ACTION: Notice of revocation of a system of records.

SUMMARY: The Farm Credit Administration (FCA) revoked its system of records for the Nationwide Mortgage Licensing System and Registry (NMLSR). All aspects of the NMLSR have been transferred by statute to the Consumer Financial Protection Bureau (Bureau).

DATES: Effective Date: July 23, 2012.

FOR FURTHER INFORMATION CONTACT: Jeffrey Pienta, Office of General Counsel, Farm Credit Administration, McLean, Virginia 22102-5090, (703) 883-4431, TTY (703) 883-4020.

SUPPLEMENTARY INFORMATION: The Secure and Fair Enforcement for Mortgage Licensing Act (S.A.F.E. Act) requires any individual employed by a depository institution, a subsidiary of a depository institution that is regulated by a Federal banking agency, or an institution regulated by the FCA, who acts as a residential mortgage loan originator to: (1) Register in the NMLSR, (2) obtain a unique identifier, and (3) maintain his or her registration.

On February 9, 2011, the FCA published in the Federal Register a system of records notice (SORN) for FCA's portion of the NMLSR in accordance with the Privacy Act of 1974 (5 U.S.C. 552a). See 76 FR 7204. To ensure compliance with 5 U.S.C. 552a(r) of the Privacy Act, as amended, the FCA also sent notice of this proposed system of records to the Office of Management and Budget, the Committee on Oversight and Government Reform of the House of Representatives, and the Committee on Homeland Security and Governmental Affairs of the Senate. The FCA did not have retrieval access to any part of the NMLSR until after FCA's SORN had become effective on March 15, 2011.

Section 1100 of Title X of the Dodd-Frank Wall Street Reform and Consumer Protection Act amended the S.A.F.E. Act by transferring authority to develop and maintain the NMLSR to the Bureau. On June 13, 2012, the Bureau published a SORN for the system of records it was establishing for the NMLSR. See 77 FR 35359. On July 23, 2012, the Bureau's SORN became effective and, as of that date, the FCA no longer maintains, owns, or controls any portion of the NMLSR. From July 23, 2012 onwards, the FCA will access, as necessary, the NMLSR as a routine user of the Bureau's system of records.

Dated: August 9, 2012.
Dale L. Aultman,
Secretary, Farm Credit Administration Board.

[FR Doc. 2012-19878 Filed 8-13-12; 8:45 am]

BILLING CODE 6705-01-P